DEPARTMENT OF COMMERCE

National Oceanic and Atmospheric Administration

[I.D. 022103C]

Vessel Monitoring Systems; List of Approved Mobile Transmitting Units and Communications Service Providers

AGENCY: National Marine Fisheries Service (NMFS), National Oceanic and Atmospheric Administration (NOAA), Commerce.

ACTION: Notice of vessel monitoring systems; approval.

SUMMARY: This document provides notice of the vessel monitoring systems (VMS) approved by NOAA for use by pelagic longline vessels in the Atlantic Highly Migratory Species (HMS) Fisheries and sets forth relevant features of each VMS. This notification is being issued to replace the approval notice published on September 9, 1999.

ADDRESSES: To obtain copies of the list of NOAA approved VMS mobile transmitting units and NOAA approved VMS communications service providers, or information regarding the status of VMSs being evaluated by NOAA for approval, write to NMFS Office for Law Enforcement (OLE), 8484 Georgia Avenue, Suite 415, Silver Spring, MD 20910.

To submit a completed and signed checklist, mail or fax it to NOAA Enforcement, 9721 Executive Center Drive North, Koger Building, St. Petersburg, FL 33702, fax 727-570-5375.

For more addresses regarding approved VMSs, see the SUPPLEMENTARY INFORMATION section, under the heading VMS Provider Addresses.

FOR FURTHER INFORMATION CONTACT: For current listing information Mark Oswell, Outreach Specialist, phone 301-427-2300, fax 301-427-2055. For questions regarding VMS installation, activation checklists, and status of evaluations, contact Jonathan Pinkerton, National VMS Program Manager, phone 301-427-2300, fax 301-427-2055. For questions regarding the checklist, contact Fred Kyle, Special Agent, NMFS Office for Law Enforcement, Southeast Division, phone 727-570-5344.

The public may acquire this notice, installation checklist, and relevant updates via the “fax-back” service, or at the OLE website http://www.nmfs.noaa.gov/ole/vms.html Telephone requests can be made by calling 301-427-2300.

SUPPLEMENTARY INFORMATION:

I. The VMS Requirement

The NMFS issued a regulation (64 FR 29090, May 28, 1999) codified at 50 CFR 635.69, requiring the use of VMS by vessels permitted to fish for HMS and that have pelagic longline gear onboard. Due to litigation, the requirement had been suspended until recently. The placement of VMS units on the fishing vessels in this fishery will enable NMFS to determine vessel locations and will complement the Agency's efforts to monitor and enforce compliance with applicable regulations.

This document provides notice of the VMS mobile transceiver units and the mobile communications service providers that have been approved by NOAA for use in the HMS Fisheries. This notice is being issued to replace the approval notice published on September 9, 1999 (64 FR 48988). The VMS consists of both the mobile transceiver unit placed on the vessel and the communications service provider that supplies the wireless link between the unit on the vessel and the shoreside data user. In the HMS Fisheries, the vessel owner is required to procure both VMS components. The two VMS components may, or may not, be provided by a single vendor. Thus, the vessel owner may need to procure the mobile transceiver unit and the mobile communications service separately.

To the extent that the use of VMS is required by applicable regulations, NMFS is considered to be the operator and user of the VMS mobile transceiver unit and the user of any required data, regardless of who is required to pay for the mobile transceiver unit onboard a vessel and for the associated communications services. Accordingly, NMFS will specify how the VMS mobile transceiver units must be configured, installed, and activated. This does not, however, preclude the vessel owner from procuring a VMS that provides additional services and capabilities used exclusively by the vessel owner and operator.

On September 23, 1993, NMFS published proposed VMS standards at 58 FR 49285. On March 31, 1994, NMFS published final VMS standards at 59 FR 15180. These documents stated that NMFS endorses the use of VMS and defined specifications and criteria for their use.

On September 8, 1998, NOAA published a request for information (RFI) in the Commerce Business Daily in which it stated the minimum VMS specifications necessary for NOAA's approval. The RFI requested that responses from interested VMS providers include supporting information which would demonstrate that the VMS could meet the minimum specifications established by NMFS OLE. The submitted supporting information was used as the basis for approving the mobile transceiver units and communications service providers specified in this document.

This document lists each currently approved VMS and sets forth the features of each VMS. The list of VMS mobile transceiver units and communications service providers approved by NOAA will be updated and revised as others are approved. The list will be posted on the NMFS OLE website and will contain revisions when required.

As noted above, implementation of required VMS usage in the HMS fisheries was delayed until a court recently upheld the HMS VMS HMS requirement. NMFS will issue a separate notice in the Federal Register specifying the effective date of the requirement to have a working VMS unit installed onboard a vessel that has left port and that has HMS permits and pelagic longline gear. However, fishing vessel owners and operators should not delay their purchase and installation of a VMS mobile transceiver unit until the last day. Vendors may require extended periods of time to deliver a mobile transceiver unit and to complete its installation.

II. VMS Mobile Transceiver Units

A. INMARSAT-C Transceivers

The Inmarsat-C satellite communications VMS transmitting units that meet the minimum technical requirements for the HMS Fisheries are as follows: Thrane & Thrane Fishery “Capsat” (part number TT-3022D-NMFS); Trimble Galaxy TNL7005 (part number 17760-45) with software v5.1; and Trimble Galaxy Courier TNL8005 (part number 30090-45) with software v5.1. Both Trimble units use antenna part number 25132-01 and must run software version 5.1, or later. Those vessels using earlier versions of Trimble software (5.0, and earlier) must contact their Trimble-Authorized Support Dealer to perform an upgrade to firmware version 5.10 or 5.10a, and set the parameters equivalent to software version 5.1, or later. The addresses for the Thrane & Thrane distributor (LandSea Systems) and the Trimble dealer contact are provided under the heading VMS Provider Addresses. Though both Trimble units are approved for use, they are no longer being manufactured. Units still may be available at Trimble-authorized dealers.

Pursuant to 50 CFR 635.69(d), the NMFS will provide an installation and activation checklist for the below listed units which the vessel owner must follow. The vessel owner must sign a statement on the checklist certifying compliance with the installation procedures and return the checklist to NMFS. Installation can be performed by experienced crew or by an electronics specialist, and the installation cost is paid by the owner.

The owner may confirm that automated position reports are being received by calling the NMFS Office for Law Enforcement in St. Petersburg, FL at 727-570-5344.

Thrane & Thrane TT-3022D-NMFS features: The transceiver consists of an integrated GPS/Inmarsat-C unit in the wheelhouse and an antenna mounted atop the vessel. The unit is factory pre-configured for NMFS VMS operations (non-Global Maritime Distress & Safety System (non-GMDSS)). Satellite commissioning services are provided by LandSea Systems personnel.

Automatic GPS position reporting starts after transceiver installation and power activation onboard the vessel. The unit is a car-radio-sized transceiver using a floating 10 to 32 VDC power supply. The unit is configured for automatic reduced position transmissions when the vessel is stationary (i.e., in port). It allows for port stays without power drain or power shut down. The unit restarts normal position transmission automatically when the vessel goes to sea.

The outside antenna, model TT-3005M, is a compact omni-directional Inmarsat-C/GPS antenna, providing operation down to -15 deg. angles. Although the unit contains push buttons to request emergency assistance from United States search and rescue authorities, search and rescue authorities can use the transceiver to communicate with the vessel only when additional equipment not required by NMFS is purchased (i.e., a message terminal display).

A configuration option is available to automatically send position reports to a private address, such as a fleet management company. Another available option is the ability to send and receive private e-mail and other messages with the purchase and installation of an input device such as a laptop or personal computer.

A vessel owner wishing to purchase this system may contact the entity identified under the heading VMS Provider Addresses for Thrane & Thrane TT-3022D-NMFS. The owner should identify himself or herself as a vessel owner in the “United States HMS Fishery.” The Thrane & Thrane transceiver and antenna the vessel owner purchases will be configured for the HMS Fisheries.

To use this transceiver, the vessel owner will need to establish an Inmarsat-C system use contract with an approved Inmarsat-C communications service provider. The owner will be required to complete the Inmarsat-C “Registration for Service Activation for Maritime Mobile Earth Station.” The owner should consult with LandSea when completing this form.

LandSea Systems personnel will perform the following before shipment: (a) configure the TT-3022D-NMFS according to NMFS OLE specifications for the HMS Fisheries; (b) download the predetermined NMFS position reporting and broadcast command identification numbers into the transceiver; (c) test the transceiver to ensure operation when installation has been completed on the vessel; and (d) forward the Inmarsat service provider and transceiver identifying information to the NOAA Office for Law Enforcement.

Trimble Galaxy TNL7005 part number 17760-45, Software v5.1, features: The transceiver consists of an integrated GPS/Inmarsat-C unit in the wheelhouse and an antenna mounted atop the vessel. The unit is factory pre-configured for NMFS VMS operations (non-GMDSS). The installation will be performed by Trimble-authorized support dealers and must be paid for by the owner.

Automatic GPS position reporting starts after coordination with the communications service provider. Although the unit contains push buttons to request emergency assistance from United States search and rescue authorities, search and rescue authorities can use the transceiver to communicate with the vessel only when additional equipment not required by NMFS is purchased (i.e., a message terminal display).

A configuration option is available to automatically send position reports to a private address, such as a fleet management company. Another available option is the ability to send/receive private e-mail and other messages with the purchase and installation of an input device, such as a laptop or personal computer.

Trimble Galaxy Courier TNL8005 part number 30090-45, Software v5.1 features: The Trimble Galaxy Courier TNL8005 transceiver has the same features as the Trimble Galaxy TNL7005, except that it also includes an integrated computer for messaging, including Internet e-mail. The unit is factory pre-configured for NMFS VMS operations, and it is GMDSS.

Trimble Galaxy--General features: A vessel owner wishing to purchase this system should contact the entity identified under VMS Provider Addresses for Trimble Galaxy Information. The owner should identify himself or herself as a vessel owner in the “United States HMS Fishery.”

In addition to purchasing an approved Trimble transceiver (TNL7005 or TNL8005) and an antenna for the HMS fishery, the vessel owner will need to establish an Inmarsat-C system use contract with an approved Inmarsat-C communications service provider. The transceiver will need to be commissioned with the service provider.

The installation of the transceiver and antenna must be paid for by the owner. To set up the transceiver for NMFS VMS operations, the owner will (a) turn on the power of the vessel transceiver; (b) contact the Inmarsat-C system communications service provider; (c) have the service provider's Customer Service download the pre-determined NMFS position reporting and broadcast commands from the provider's control center to the vessel transceiver via satellite; and (d) confirm with Customer Service that periodic position reports are now automatically being sent to NOAA. Customer Service will confirm service activation by forwarding to the Office for Law Enforcement the following identifying information: (a) Trimble transceiver serial number; (b) Inmarsat Identification number; (c) Data Network Identification (DNID) and member numbers; (d) Enhanced Network Identification (ENID) numbers; (e) owner name; (f) vessel name; and (g) Vessel documentation or registration number.

III. Communications Service Providers

NMFS OLE has approved the below-listed Telenor and Xantic satellite communications services for the Atlantic HMS fishery. It is recommended that the vessel owner keep for his or her records and that Telenor and Xantic have on record the following identifying information: (a) signed and dated receipts and contracts; (b) transceiver serial number; (c) Telenor or Xantic customer number, user name and password; (d) e-mail address of transceiver; (e) Inmarsat identification number; (f) Data Network Identification numbers (DNID and ENID), including the member number; (g) owner name; (h) vessel name; (i) vessel documentation or registration number; and (j) mobile earth station license (FCC license).

The owner may confirm transceiver operation and communications service to ensure that position reports are automatically sent to and received by the Office for Law Enforcement before leaving on a fishing trip under VMS. The NOAA Office for Law Enforcement does not regard the fishing vessel as meeting the requirements of 50 CFR 635.69 until position reports are automatically received. For confirmation purposes, contact the NOAA Office for Law Enforcement in St. Petersburg, FL, at 727-570-5344.

A. Telenor Satellite Services/Inmarsat-C

Inmarsat-C is a store-and-forward data messaging service. Inmarsat-C allows users to send and receive information virtually anywhere in the world - on land, at sea, and in the air. Inmarsat-C supports a wide variety of applications including Internet e-mail, position and weather reporting, a free daily news service, and remote equipment monitoring and control. Mariners can use Inmarsat-C free of charge to send critical safety at sea messages as part of the U.S. Coast Guard's Automated Mutual-Assistance Vessel Rescue system and of the NOAA Shipboard Environmental Acquisition System programs. For the Telenor address, look under the heading VMS Provider Addresses.Inmarsat-C features: Vessel owners wishing to use Inmarsat-C will need to purchase an Inmarsat-C transceiver and antenna approved for the fishery. The owner will need to complete an Inmarsat-C system use contract with Telenor, including a provision for a mobile earth station license (FCC requirement). The transceiver will need to be commissioned with Inmarsat according to Telenor instructions. The owner should refer to and follow the configuration, installation, and service activation procedures for the specific transceiver purchased.

B. Xantic

Xantic is a provider of Inmarsat satellite communications services. Xantic offers seamless, global Inmarsat-C coverage. Xantic is approved for VMS use with Inmarsat-C services. For the Xantic address, look under the heading VMS Provider Addresses.

Xantic features: Customer Service supports the security and privacy of vessel accounts and messages with the following: (a) password authentication for vessel owners or agents and for the NOAA Office for Law Enforcement to prevent unauthorized changes or inquiries; and (b) separation of private messages from Office for Law Enforcement messages. (The Office for Law Enforcement receives VMS-related position reports only.)

Billing is separated between accounts for the vessel owner and the NOAA Office for Law Enforcement. VMS position reports and vessel-initiated messaging are paid for by the vessel owner. Messaging initiated from the Office for Law Enforcement operations center is paid for by NOAA.

Customer Service supports and establishes a two-way transmission of transceiver unit configuration commands between the transceiver and land-based control centers. This supports the Office for Law Enforcement's message needs and, optionally, fishermen's private message needs.

When the transceiver transmits a message requesting emergency assistance (GMDSS alert), Xantic (through Inmarsat) forwards the information to the United States Coast Guard. However, unless non-NMFS required equipment is purchased (i.e., an addition of a message terminal display), the United States Coast Guard can not use the transceiver to communicate with the vessel.

The vessel owner can configure automatic position reports to be sent to a private address, such as to a fleet management company. The vessel can send and receive private e-mail and other messages when the transceiver has such an input device as a laptop or personal computer attached.

Vessel owners wishing to use Xantic will need to purchase an Inmarsat-C transceiver and antenna approved for the fishery. The owner will need to complete an Inmarsat-C system use contract with Station 12, including a mobile earth station license (FCC requirement). The transceiver will need to be commissioned with Inmarsat according to Xantic's instructions. The owner should refer to and follow the configuration, installation, and service activation procedures for the specific transceiver purchased.

IV. VMS Provider Addresses

For Thrane & Thrane TT-3022D-NMFS information, contact Ken Ravenna, Marine Products, LandSea Systems, Inc.,509 Viking Drive, Suite K, L & M, Virginia Beach, VA 23452; voice: 757-463-9557; fax: 757-463-9581, e-mail: KCR@LandSeaSystems.com.; website: http://www.landseasystems.com.

For regional dealer information about the Trimble Galaxy transceiver units, contact Tom Mackey at 1-800-477-1207, or a Trimble-Authorized Support Dealer, based at local marine electronics outlets.

For Telenor information, contact Telenor Satellite Services, 6560 Rock Spring Drive, Bethesda, MD 20817; Telenor Customer Care, phone: 800-685-7898 or 301-838-7700; e-mail: www.customercare@telenor-usa.com.; website: www.telenor-usa.com. Alternate Contact: Courtney Coleman, Manager COMSAT-C Services Marketing, 6560 Rock Spring Dr., Bethesda, MD 20817; phone: 301-214-3293.e-mail: courtney.coleman@telenor-usa.com.

For Xantic information, contact Xantic, Andre Cortese, 1211 Connecticut Ave., NW, Suite 504, Washington, DC 20036; telephone number: 202-785-5615; e-mail: andrea.cortese@xantic.net; Customer Service, Netherlands, toll free: 1-888-440-8988; website: www.xantic.net.

Authority: 16 U.S.C. 1801, et seq.

Dated: March 3, 2003.
Rebecca Lent,
Deputy Assistant Administrator for Regulatory Programs, National Marine Fisheries Service.

[FR Doc. 03-5643 Filed 3-10-03; 8:45 am]

BILLING CODE 3510-22-S